DEPARTMENT OF TRANSPORTATION

Federal Aviation Administration

[Summary Notice No. PE-2000-01]

Petition for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATE: Comments on petitions received must identify the petition docket number involved and must be received on or before February 22, 2000.

ADDRESSES: Send comments on any petition in triplicate to: Federal Aviation Administration, Office of the Chief Counsel, Attn: Rule Docket (AGC-200), Petition Docket No. ____ 800 Independence Avenue, SW., Washington, D.C. 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271 or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, D.C., on January 27, 2000.
Donald P. Byrne,
Assistant Chief Counsel for Regulations.

Petitions for Exemption

Docket No.: 29854.

Petitioner: LifePort, Inc.

Section of the FAR Affected: 14 CFR 25.785(b) and 25.562.

Description of Relief Sought: To permit installation of a medical stretcher for carriage of non-ambulatory persons on a Gulfstream GV airplane.

Docket No.: 29859.

Petitioner: Hawaiian Airlines, Inc.

Section of the FAR Affected: 14 CFR 121.344(b)(3) and 121.226(b)(3).

Description of Relief Sought: To permit Hawaiian to operate nine McDonnell Douglas DC-9 airplanes after August 20, 2001, until their expected retirement dates, on or before December 31, 2001, without installing the required digital flight data recorder in each airplane.

Docket No.: 29791.

Petitioner: United Parcel Service, Inc.

Section of the FAR Affected: 14 CFR 61.77(a).

Description of Relief Sought: To permit UPS to obtain special purpose pilots authorizations for certain holders of foreign pilot certificates to ferry U.S.-registered Boeing 727 aircraft listed on the UPS Operations Specifications between non-U.S. airports.

Docket No.: 29626.

Petitioner: Glen G. Rowlinson.

Section of the FAR Affected: 14 CFR 65.91(c)(1).

Description of Relief Sought: To permit Glen G. Rowlinson to be eligible for an inspection authorization without holding a current mechanic certificate with airframe and powerplant ratings that have been in effect for a total of at least 3 years.

Docket No.: 29745.

Petitioner: C&S Aviation, Limited.

Section of the FAR Affected: 14 CFR 135.25(b) and (c).

Description of Relief Sought: To permit C&S to operate under part 135 without having exclusive use of at least one aircraft that meets the requirements for at least one kind of operation authorized by C&S's operations specifications.

Dispositions of Petitions

Docket No.: 29531.

Petitioner: Dornier Luftfahrt GmbH.

Section of the FAR Affected: 14 CFR 25.841(a)(2) and (a)(3).

Description of Relief Sought/Disposition: To allow the Dornier Model 328-300 airplanes to operate up to a maximum altitude of 35,000 feet instead of 31,000 feet, which is the currently approved limitation.

Denial, 12/22/99, Exemption No. 7090

Docket No.: 29871.

Petitioner: Construcciones Aeronauticas, S.A.

Section of the FAR Affected: 14 CFR 25.723.

Description of Relief Sought/Disposition: To permit Construcciones Aeronauticas, S.A., have one additional year to demonstrate compliance with § 25.723 for the CASA Model C-295 landing gear system.

Partial Grant, 12/17/99, Exemption No. 7088

Docket: No.: 29687.

Petitioner: R&M Aviation.

Section of the FAR Affected: 14 CFR 135.143(c)(2).

Description of Relief Sought/Disposition: To permit R&M to operate its Agusta A-109E helicopter (Registration No. N97CH; Serial No. 11012) under part 135 without a TSO-C112 (Mode S) transponder installed in the aircraft.

Grant, 11/19/99, Exemption No. 7078

Docket No.: 29818.

Petitioner: Michael Hoeffler.

Section of the FAR Affected: 14 CFR 135.251, 135.255, and 135.353, and appendices I and J to part 121

Description of Relief Sought/Disposition: To permit Michael Hoeffler to conduct a local sightseeing flight at the Minute Man Airfield in Stow, Massachusetts, for the Bolton Historical Society, for compensation or hire, without complying with certain anti-drug and alcohol misuse prevention requirements of part 135.

Grant, 12/3/99, Exemption No. 7085

Docket No.: 23358.

Petitioner: Clarke Environmental Mosquito Management, Inc.

Section of the FAR Affected: 14 CFR 91.313(c).

Description of Relief Sought/Disposition: To allow CEMM to carry passengers in its Bell 47G-4A and 47G-3B-1 helicopters and Piper PA23-250, certificated in the restricted category, while performing aerial-site survey flights.

Grant, 12/1/99, Exemption No. 6701A

Docket No.: 29862.

Petitioner: Fairbury Area Pilots.

Section of the FAR Affected: 14 CFR 135.251, 135.255, and 135.353, and appendices I and J to part 121

Description of Relief Sought/Disposition: To allow FAP to conduct local sightseeing flights at an airport in the vicinity of Fairbury, Nebraska for a charity fundraiser on two days in December, for compensation or hire, without complying with certain anti-drug and alcohol misuse prevention requirements of part 135.

Grant, 12/15/99, Exemption No. 7086

Docket No.: 29857.

Petitioner: Flying Conestoga's.

Section of the FAR Affected: 14 CFR 135.251, 135.255, and 135.353, and appendixes I and J to part 121.

Description of Relief Sought/Disposition: To allow Flying Conestoga's to conduct local sightseeing flights at an airport in the vicinity of Beatrice, Nebraska for a charity fundraiser on two days in December, for compensation or hire, without complying with certain anti-drug and alcohol misuse prevention requirements of part 135.

Grant, 12/15/99, Exemption No. 7087

Docket No.: 26101.

Petitioner: America West Airlines.

Section of the FAR Affected: 14 CFR 93.123.

Description of Relief Sought/Disposition: To permit America West to operate three flights at Ronald Reagan Washington National Airport (DCA). The slots for these flights previously were granted to Braniff Airlines, Inc., under Exemption No. 3927.

Grant, 12/15/99, Exemption No. 5133I

Docket No.: 28470.

Petitioner: Compoende Aeronáutica Ltda.

Section of the FAR Affected: 14 CFR 145.47(b).

Description of Relief Sought/Disposition: To permit Compoende to use the calibration standards of the Instituto Nacional de Metrologia, Normalização e Qualidade Industrial in lieu of the calibration standards of the U.S. National Institute of Standards and Technology to test its inspection and test equipment.

Grant, 10/28/99, Exemption No. 6550B

Docket No.: 28924.

Petitioner: STUNTS Adventure Equipment, Inc.

Section of the FAR Affected: 14 CFR 105.43(a).

Description of Relief Sought/Disposition: To permit SAE to allow its employees, representatives, and other volunteer experimental parachute test jumpers under its direction and control to make tandem parachute jumps while wearing a dual-harness, dual-parachute pack having at least one main parachute and one approved auxiliary parachute packed in accordance with § 105.43(a). The exemption also permits pilots in command of aircraft involved in these operations to allow such persons to make these parachute jumps.

Grant, 10/28/99, Exemption No. 6693A

Docket No.: 28708

Petitioner: Empire Airlines, Inc.

Section of the FAR Affected: 14 CFR 43.9 and 121.709(b)(3).

Description of Relief Sought/Disposition: To permit empire to use electronic signatures in lieu of physical signatures to satisfy airworthiness release or aircraft log entry signature requirements of § 43.9 for operations conducted under 14 CFR part 135 and § 121.709(b)(3) for operations conducted under part 121.

Grant, 11/2/99, Exemption No. 6668B

Docket No.: 29810.

Petitioner: IHC Life Flight.

Section of the FAR Affected: 14 CFR 135.143(c)(2)

Description of Relief Sought/Disposition: To permit IHC Life Flight to operate three Super King Air B200 aircraft (Registration Nos. N301HC, N401HC and N501HC; Serial Nos. BB-1219, BB-1294, and BB-1306, respectively) and two Agusta A 109K2 rotorcraft (Registration Nos. N109RX and N123RX; Serial Nos. 10016 and 10018, respectively) under part 135 without a TSO-C112 (Mode S) transponder installed in each aircraft.

Grant, 11/19/99, Exemption No. 7079

Docket No.: 28732.

Petitioner: Vieques Air Link, Inc.

Section of the FAR Affected: 14 CFR 121.356.

Description of Relief Sought/Disposition: To allow Vieques to operate its Britten-Norman BN-2A Mark III Trislander aircraft without TCAS equipment installed.

Partial Grant, 11/8/99, Exemption No. 7067

Docket No.: 29776.

Petitioner: Pomona Valley Pilots Association.

Section of the FAR Affected: 14 CFR 135.251, 135.255, and 135.353, and appendixes I and J to part 121

Description of Relief Sought/Disposition: To allow the PVPA to conduct local sightseeing flights at Brackett Airport for the first annual Air Fair on November 6 and 7, 1999, for compensation or hire, without complying with certain anti-drug and alcohol misuse prevention requirements of part 135.

Grant, 11/5/99, Exemption No. 7066

Docket No.: 29566.

Petitioner: ANA IHI Aero-engines Co., Ltd.

Section of the FAR Affected: 14 CFR 145.47(b).

Description of Relief Sought/Disposition: To allow AIA to substitute the calibration standards of the National Research Laboratory of Metrology (NRLM) and Electrotechnical Laboratory (ETL), Japan's national standards organizations, for the calibration standards of the U.S. National Institute of Standards and Technology (NIST), formerly the National Bureau of Standards, to test its inspection and test equipment.

Grant, 11/22/99, Exemption No. 7071

Docket No.: 29727.

Petitioner: Trajen, Inc.

Section of the FAR Affected: 14 CFR 135.143(c)(2).

Description of Relief Sought/Disposition: To allow Trajen to operate its Mooney M20M aircraft (Registration No. N57TF, Serial No. 270257) under part 135 without a TSO-C112 (Mode S) transponder installed in the aircraft.

Grant, 10/28/99 Exemption No. 7062

[FR Doc. 00-2259 Filed 2-1-00; 8:45 am]

BILLING CODE 4910-13-M